DEPARTMENT OF TRANSPORTATION

Office of The Secretary

Application of Rectrix Aviation, Inc. for Commuter Authority

AGENCY: Department of Transportation.

ACTION: Notice of Order to Show Cause (Order 2016-7-6) DOT-OST-2016-0015.

SUMMARY: The Department of Transportation is directing all interested persons to show cause why it should not issue an order tentatively finding Rectrix Aviation, Inc., fit, willing, and able to provide scheduled passenger service as a commuter air carrier using small aircraft pursuant to Part 135 of the Federal Aviation Regulations.

DATES: Persons wishing to file objections should do so no later than July 25, 2016.

ADDRESSES: Objections and answers to objections should be filed in Docket DOT-OST-2016-0015 and addressed to U.S. Department of Transportation, Docket Operations (M-30, Room W12-140), 1200 New Jersey Avenue SE., West Building Ground Floor, Washington, DC 20590, and should be served upon the parties listed in Attachment A to the order.

FOR FURTHER INFORMATION CONTACT: Venk Paluvai, Office of Aviation Analysis (X-53, Room W86-497), U.S. Department of Transportation, 1200 New Jersey Avenue SE., Washington, DC 20590, (202) 366-5432.

Dated: July 8, 2016.
Jenny T. Rosenberg,
Acting Assistant Secretary for Aviation and International Affairs.

[FR Doc. 2016-16755 Filed 7-14-16; 8:45 am]

BILLING CODE 4910-9X-P